DEPARTMENT OF VETERANS AFFAIRS

[OMB Control No. 2900-New (Appraiser-Realtor Surveys)]

Proposed Information Collection (VBA Loan Guaranty Service Appraiser and Realtor Satisfaction Surveys); Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to this notice. This notice solicits comments on information needed to determine realtor and appraiser satisfaction with the VBA Loan Guaranty Service (LGY).

DATES: Written comments and recommendations on the proposed collection of information should be received on or before February 23, 2009.

ADDRESSES: Submit written comments on the collection of information through www.Regulations.gov; or to Nancy J. Kessinger, Veterans Benefits Administration (20M35), Department of Veterans Affairs, 810 Vermont Avenue, NW., Washington, DC 20420 or e-mail nancy.kessinger@va.gov. Please refer to “OMB Control No. 2900-New (Appraiser-Realtor Surveys) in any correspondence. During the comment period, comments may be viewed online through the Federal Docket Management System (FDMS) at www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VA Loan Guaranty Service Appraiser and Realtor Surveys.

OMB Control Number: 2900-New (Appraiser-Realtor Surveys).

Type of Review: New collection.

Abstract: The mission of LGY is to help veterans and active duty personnel purchase and retain homes in recognition of their service to our nation. The program offers many advantages to veterans, including no down payment, and no mortgage insurance premiums. Since the program's inception in 1944, it has helped millions of veterans to become homeowners.

As part of the VA's continuing commitment to improve the services provided to veterans, LGY will conduct FY09 VA Loan Guaranty Service Appraiser and Realtor Surveys. The survey will target real estate professionals geographically located in “veteran rich” areas. The appraisers surveyed will be those currently serving on the VA Fee Panel.

Affected Public: Business or other for profits.

Estimated Annual Burden: 2,750 hours.

Estimated Average Burden Per Respondent: 15 minutes.

Frequency of Response: One-time.

Estimated Number of Respondents: 11,000.

Dated: December 16, 2008.
By direction of the Secretary.
Denise McLamb,
Program Analyst, Records Management Service.

[FR Doc. E8-30596 Filed 12-22-08; 8:45 am]

BILLING CODE 8320-01-P